DEPARTMENT OF DEFENSE

Department of the Army

[Docket ID: USA-2015-0022]

Privacy Act of 1974; System of Records

AGENCY: Department of the Army, DoD.

ACTION: Notice to add a new System of Records.

SUMMARY: The Department of the Army proposes to add a new system of records, A0215-1b OAA, entitled “Army Executive Dining Facility ARDEF Accounting System (AAS)” to provide accounting management functions for the Army Executive Dining Facility (ARDEF). ARDEF managers will utilize the ARDEF Accounting System (AAS) to provide members an automatic payment option for services using the member's credit card account number. The ASS generates a monthly statement for member's review.

DATES: Comments will be accepted on or before July 22, 2015. This proposed action will be effective on the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Department of the Army's notices for systems of records subject to the Privacy Act of 1974 (5 U.S.C. 552a(r)), as amended, have been published in the Federal Register and are available from the address in FOR FURTHER INFORMATION CONTACT or from the Defense Privacy and Civil Liberties Division Web site at http://dpcld.defense.gov/.

The proposed systems reports, as required by 5 U.S.C. 552a(r) of the Privacy Act, as amended, were submitted on May 18, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 17, 2015.
Aaron Siegel,
Alternate OSD Federal Register Liaison Officer, Department of Defense.

A0215-1b OAA

System name:

Army Executive Dining Facility ARDEF Accounting System (AAS)

System location:

Headquarters Department of the Army (HQDA) Office of the Administrative Assistant, Army Executive Dining Facility, 114 Army Pentagon, Washington, DC 20310-1114.

Categories of individuals covered by the system:

Military Flag Officers and civilian Senior Executive Service employees.

Categories of records in the system:

Name, billing address, credit card account number and expiration date, and email address.

Authority for maintenance of the system:

10 U.S.C. 3013, Secretary of the Army; DoD Instruction 5000.24, Pentagon Executive Dining Facilities (EDFs); DoD Directive 1015.10, Military Morale, Welfare, and Recreation (MWR) Programs; Army Regulation 215-1, Military Morale, Welfare, and Recreation Programs and Non-appropriated Fund Instrumentalities.

Purpose(s):

To provide accounting management functions for the Army Executive Dining Facility (ARDEF). ARDEF managers will utilize the ARDEF Accounting System (AAS) to provide members an automatic payment option for services using the member's credit card account number. The ASS generates a monthly statement for member's review.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army compilation of system of records notices may apply to this system. The complete list of DoD blanket routine uses can be found online at: http://dpcld.defense.gov/Privacy/SORNsIndex/BlanketRoutineUses.aspx.

Policies and practices for storing, retrieving, accessing, retaining, and disposing of records in the system:

Storage:

Electronic storage media and paper records.

Retrievability:

By individual's name.

Safeguards:

Access to computerized data is restricted to authorized and approved person(s) properly screened and cleared for need-to-know basis. Desktops and database server reside on the DOD HQDA Network with no remote access. They are located in a secured facility that employs physical restrictions and safeguards such as security guards, identification badges, key cards, and locks. Access to computerized data is restricted by use of common access cards (CACs) and is accessible only by users with an authorized account.

Retention and disposal:

Records are retained only for the length of duty assigned to the position. Once the military member makes a permanent change of station or a civilian is no longer an employee of a Pentagon agency, the paper records are destroyed by burning. The electronic records are deleted immediately upon member departure from the position.

System manager(s) and address:

HQDA Office of the Administrative Assistant, Manager, Army Executive Dining Facility, 114 Army Pentagon, Washington DC 20310-1114.

Notification procedure:

Individuals seeking to determine whether information about themselves is contained in this system should address written inquiries to the Director, HQDA Office of the Administrative Assistant, Army Executive Dining Facility, 114 Army Pentagon, Washington, DC 20310-1114.

Individual should provide their full name and signature. In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Record access procedures:

Individuals seeking access to information about themselves contained in this system should address written inquiries to the Director, HQDA Office of the Administrative Assistant, Army Executive Dining Facility, 114 Army Pentagon, Washington, DC 20310-1114.

Individual should provide their full name and signature. In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'

Contesting record procedures:

The Army's rules for accessing records, and for contesting contents and appealing initial agency determinations are contained in Army Regulation 340-21; 32 CFR part 505; or may be obtained from the system manager.

Record source categories:

From the individual.

Exemptions claimed for the system:

None.

[FR Doc. 2015-15261 Filed 6-19-15; 8:45 am]

BILLING CODE 5001-06-P